DEPARTMENT OF THE INTERIOR

Minerals Management Service

Agency Information Collection Activities: Submitted for Office of Management and Budget (OMB) Review; Comment Request

AGENCY: Minerals Management Service (MMS), Interior.

ACTION: Notice of a revision of a currently approved information collection (OMB Control Number 1010-0139).

SUMMARY: To comply with the Paperwork Reduction Act of 1995 (PRA), we are notifying the public that we have submitted to OMB an information collection request (ICR) to renew approval of the paperwork requirements in the regulations under 30 CFR parts 210 and 216. This notice also provides the public a second opportunity to comment on the paperwork burden of these regulatory requirements. The new title for this ICR is “30 CFR Part 210—Forms and Reports and Part 216—Production Accounting.” This ICR uses Forms MMS-4054, Oil and Gas Operations Report, and MMS-4058, Production Allocation Schedule Report.

DATES: Submit written comments on or before August 11, 2006.

ADDRESSES: Submit written comments by either FAX (202) 395-6566 or e-mail (OIRA_Docket@omb.eop.gov) directly to the Office of Information and Regulatory Affairs, OMB, Attention: Desk Officer for the Department of the Interior (OMB Control Number 1010-0139).

Please also send a copy of your comments to MMS via e-mail at mrm.comments@mms.gov. Include the title of the information collection and the OMB control number in the “Attention” line of your comment. Also include your name and return address. If you do not receive a confirmation that we have received your e-mail, contact Ms. Gebhardt at (303) 231-3211.

You may also mail a copy of your comments to Sharron L. Gebhardt, Lead Regulatory Specialist, Minerals Management Service, Minerals Revenue Management, P.O. Box 25165, MS 302B2, Denver, Colorado 80225.

If you use an overnight courier service or wish to hand-deliver your comments, our courier address is Building 85, Room A-614, Denver Federal Center, West 6th Ave. and Kipling Blvd., Denver, Colorado 80225.

FOR FURTHER INFORMATION CONTACT: Sharron L. Gebhardt, telephone (303) 231-3211, FAX (303) 231-3781, e-mail Sharron.Gebhardt@mms.gov. You may also contact Sharron Gebhardt to obtain, at no cost, a copy of the ICR and associated forms sent to OMB, or regulations that require the subject collection of information.

SUPPLEMENTARY INFORMATION: Title: 30 CFR Part 210—Forms and Reports and Part 216—Production Accounting.

OMB Control Number: 1010-0139.

Bureau Form Number: Forms MMS-4054 and MMS-4058.

Abstract: The Secretary of the U.S. Department of the Interior is responsible for collecting royalties from lessees who produce minerals from leased Federal and Indian lands. The Secretary is required by various laws to manage mineral resources production on Federal and Indian lands, collect the royalties due, and distribute the funds in accordance with those laws.

The Secretary also has a trust responsibility to manage Indian lands and seek advice and information from Indian beneficiaries. The MMS performs the royalty management functions and assists the Secretary in carrying out the Department's trust responsibility for Indian lands.

When a company or an individual enters into a lease to explore, develop, produce, and dispose of minerals from Federal or Indian lands, that company or individual agrees to pay the lessor a share (royalty) of the value received from production from the leased lands. The lease creates a business relationship between the lessor and the lessee. The lessee is required to report various kinds of information to the lessor relative to the disposition of the leased minerals. Such information is similar to data reported to private and public mineral interest owners and is generally available within the records of the lessee or others involved in developing, transporting, processing, purchasing, or selling of such minerals. The information collected includes data necessary to ensure that the royalties are accurately valued and appropriately paid.

The MMS financial accounting system is an integrated computer system that includes production reports submitted by lease/agreement operators and is designed to track minerals produced from Federal and Indian lands from the point of production to the point of disposition, or royalty determination, and/or point of sale. The financial accounting system also includes payment and sales volumes and values, as reported by payors. The production and royalty volumes are compared to verify that proper royalties are received for the minerals produced.

The production reports provide MMS with ongoing information on lease, unit, or communitization agreement (lease/agreement) and facility production, sales volumes, and inventories. The reports summarize all operations on a lease/agreement or facility during a reporting period. They identify production by the American Petroleum Institute well number and sales by product. Data collected are used as a method of cross-checking reported production with reported sales. Failure to collect this information will prevent MMS from ensuring that all royalties owed on lease production are accurately valued and appropriately paid. Additionally, the data is shared electronically with the Bureau of Land Management, MMS's Offshore Minerals Management, Bureau of Indian Affairs, and tribal and state governments so they can perform their lease management responsibilities. The requirement to report accurately and timely is mandatory.

Form MMS-4054, Oil and Gas Operations Report (OGOR)

This three-part form, submitted monthly, identifies all oil and gas lease production and dispositions. The form is used for all production reporting for Outer Continental Shelf, Federal, and Indian lands. Monthly production information is compared with monthly sales and royalty data submitted on Form MMS-2014, Report of Sales and Royalty Remittance (OMB Control Number 1010-0140, expires October 31, 2006), to ensure proper royalties are paid on the oil and gas production reported to MMS. To modify previously submitted reports, the operator has the option of modifying the reporting line (delete/add by detail line) or replacing (overlaying) the previous report. The MMS uses the information from Parts A, B, and C of the OGOR to track all oil and gas from the point of production to the point of first sale or other disposition.

OGOR Part A—Well Production. All operators submit Part A for each lease or agreement with active wells until such wells are abandoned and inventories are disposed. Each line identifies a well/producing interval combination showing well status; days on production; volumes of oil, gas, and water produced; and any volumes injected during the report month.

OGOR Part B—Product Disposition. For any month with production volumes, operators submit Part B to identify the sales, transfers, and lease use of production reported on Part A. A separate line for each disposition shows: (1) The volume of oil, gas, or water; (2) the sales meter or other meter identifier; (3) the gas plant for instances where gas was processed prior to royalty determination; and (4) the quality of production sold.

OGOR Part C—Product Inventory. The lease operators who store their production before selling it must submit Part C. Separate lines for each product identify the storage facility; sales meter if applicable; quality of production sold; beginning and ending storage inventory; volume of sales; and volumes of other gains and losses to inventory.

Form MMS-4058, Production Allocation Schedule Report (PASR)

This form is submitted monthly by operators of the facilities and measurement points where production from an offshore lease or metering point is commingled with production from other sources before it is measured for royalty determination.

Each line identifies a lease or metering point and allocated sales or transferred volumes. Space is provided on each detail line for the operator's property name (area/block), and a column is provided to identify the product that was injected into the pipeline system. To modify previously submitted reports, the operator has the option of modifying (delete/add by detail line) or replacing (overlaying) the previous report. The MMS uses the data to determine whether sales reported by the lessee are reasonable.

Applicable Citations

Applicable citations of the laws pertaining to mineral leases on Federal and Indian lands include:

1. 25 U.S.C. 396d (Chapter 12—Lease, Sale or Surrender of Allotted or Unallotted Lands);

2. 25 U.S.C. 2103 (Indian Mineral Development Act of 1982);

3. Public Law 97-451—Jan. 12, 1983 (Federal Oil and Gas Royalty Management Act of 1982 [FOGRMA]);

4. Public Law 104-185—Aug. 13, 1996 (Federal Oil and Gas Royalty Simplification and Fairness Act of 1996 [RSFA]), as corrected by Public Law 104—200-Sept. 22, 1996);

5. The Mineral Leasing Act (30 U.S.C. 1923); and

6. The Outer Continental Shelf Lands Act (43 U.S.C. 1353).

Public laws pertaining to mineral royalties are located on our Web site at http://www.mrm.mms.gov/Laws_R_D/PublicLawsAMR.htm.

The Code of Federal Regulations (CFR) citations we are covering in this ICR are 30 CFR parts 210 and 216.

OMB Approval

The MMS is requesting OMB's approval to continue to collect this information. Not collecting this information would limit the Secretary's ability to discharge his/her duties and may also result in loss of royalty payments. Proprietary information submitted is protected, and there are no questions of a sensitive nature included in this information collection.

Frequency: Monthly and on occasion.

Estimated Number and Description of Respondents: 2,500 oil and gas operators.

Estimated Annual Reporting and Recordkeeping “Hour” Burden: 76,631 hours.

We are revising this ICR to include reporting requirements that were overlooked in the previous renewal (§§ 216.2 and 216.30), and we have adjusted the burden hours accordingly. These reporting requirements are considered rare and/or unusual circumstances.

The following chart details the estimated burden hours by CFR section and paragraph. In calculating the burden, we assume that respondents perform certain requirements in the normal course of their business activities. Therefore, we consider these usual and customary, and took that into account in estimating the burden.

Respondents' Estimated Annual Burden Hours
30 CFR parts 210 and 216 | Reporting requirement | Burden hours per response | Annual number of responses | Annual burden hours
30 CFR—210—Forms and Reports
Subpart A—General Provisions
210.20(a) | § 210.20 When is electronic reporting required? (a) You must submit Forms * * * and MMS-4054 to MMS electronically. You must begin reporting electronically according to the following timetable * * * | .25 hour (Electronic) .25 hour (Manual) | 294,000 6,000 | 73,500 1,500
210.21(c)(1) | § 210.21 How do you report electronically? (c) Before you may begin reporting electronically: (1) You must submit an electronic sample of your report for MMS approval * * * | Burden covered under § 210.20(a).
30 CFR 210—Forms and Reports
Subpart B—Oil, Gas, and OCS Sulfur—General
210.50 | § 210.50 Required recordkeeping Information required by the MMS shall be filed using the forms prescribed in this subpart * * * Records may be maintained in * * * or other recorded media that is easily reproducible and readable | Burden covered under § 210.20(a).
30 CFR 216—Production Accounting
Subpart A—General Provisions
216.2 | § 216.2 Scope * * * Reporters are required to submit certain production reports to MMS as set forth in this part | Burden covered under §§ 210.20(a); 216.56(a), (b), and (c); and 216.57.
216.11 | § 216.11 Electronic reporting You must submit your Oil and Gas Operations Report, Form MMS-4054, in accordance with electronic reporting requirements in 30 CFR part 210 | Burden covered under § 210.20(a).
216.16(a) | § 216.16 Where to report (a) All reporting forms * * * should be mailed to the Minerals Management Service, Minerals Revenue Management * * *
216.21 | § 216.21 General obligations of the reporter The reporter shall submit accurately, completely, and timely * * * all information forms and other information required by MMS * * *
216.40(d) | § 216.40 Assessments for incorrect or late reports and failure to report (d) * * * The reporter shall have the burden of proving that a reporting problem was unavoidable
216.30 | § 216.30 Special forms and reports When special forms and reports * * * are necessary * * * Such requests will be made in conformity with the requirements of the Paperwork Reduction Act of 1995, and are expected to involve less than 10 respondents annually | 1 | 1 | 1
30 CFR 216—Production Accounting
Subpart B—Oil and Gas, General
216.53(a), (b), and (c) | § 216.53 Oil and Gas Operations Report (a) You must file an Oil and Gas Operations Report, Form MMS-4054 * * *. (b) You must submit a Form MMS-4054 for each well for each calendar month * * *. (c) MMS must receive your completed Form MMS-4054 * * *. (1) Electronically * * *. (2) Other than electronically * * *. | Burden covered under § 210.20(a).
216.56(a), (b), and (c) | § 216.56 Production Allocation Schedule Report (a) Any operator of an offshore Facility Measurement Point * * * must file a Production Allocation Schedule Report (Form MMS-4058)* * * (b) You must submit a Production Allocation Schedule Report, Form MMS-4058, for each calendar month * * * (c) MMS must receive your Form MMS-4058 * * *. (1) Electronically * * *. (2) Other than electronically * * *. | .1167 hour (Electronic) .25 hour (Manual) | 7,280 3,120 | 850 780
216.57 | 216.57 Stripper royalty rate reduction notification * * * Operators who have been granted a reduced royalty rate(s) * * * must submit a Stripper Royalty Rate Reduction Notification (Form MMS-4377) to MMS * * * | Burden covered under OMB Control Number 1010-0090 (expires October 31, 2007).
Total |  |  | 310,401 | 76,631

Estimated Annual Reporting and Recordkeeping “Non-hour” Cost Burden: Reporters require access to the Internet through a subscription to an Internet provider service. The annual subscription is estimated at $240 per reporter. For 2,500 reporters, the annual aggregate total is $600,000 (2,500 × $240).

Public Disclosure Statement: The PRA (44 U.S.C. 3501 et seq.) provides that an agency may not conduct or sponsor, and a person is not required to respond to, a collection of information unless it displays a currently valid OMB control number.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on September 14, 2005 (70 FR 54403), announcing that we would submit this ICR to OMB for approval. The notice provided the required 60-day comment period. We received no comments in response to the notice.

If you wish to comment in response to this notice, you may send your comments to the offices listed under the ADDRESSES section of this notice. The OMB has up to 60 days to approve or disapprove the information collection but may respond after 30 days. Therefore, to ensure maximum consideration, OMB should receive public comments by August 11, 2006.

Public Comment Policy: We will post all comments in response to this notice on our Web site at http://www.mrm.mms.gov/Laws_R_D/InfoColl/InfoColCom.htm. We will also make copies of the comments available for public review, including names and addresses of respondents, during regular business hours at our offices in Lakewood, Colorado. Individual respondents may request that we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

MMS Information Collection Clearance Officer: Arlene Bajusz, (202) 208-7744.

Dated: March 15, 2006.
Richard Adamski,
Acting Associate Director for Minerals Revenue Management.

[FR Doc. E6-10883 Filed 7-11-06; 8:45 am]

BILLING CODE 4310-MR-P